FEDERAL COMMUNICATIONS COMMISSION

[ET Docket No. 98-237, FCC 00-181]

3650-3700 MHz Government Transfer

AGENCY: Federal Communications Commission.

ACTION: Notice.

SUMMARY: This document modifies the freeze imposed on applications for new earth stations and major modifications in existing earth stations in the 3650-3700 MHz band, which is also referred to as the extended C-band. We are partially lifting the freeze to allow the acceptance of applications for new extended C-band earth station receive sites that are within close proximity (i.e., 10 miles or less) of an existing grandfathered extended C-band earth station receive site. Additionally, we are lifting the freeze with respect to major modifications to existing grandfathered extended C-band earth station receive sites.

DATES: Effective May 22, 2000.

FOR FURTHER INFORMATION CONTACT: Rodney Conway, Office of Engineering and Technology, (202) 418-2904.

SUPPLEMENTARY INFORMATION: This is a summary of the Commission's Order, ET Docket 98-237, FCC 00-181, adopted May 17, 2000, and released May 22, 2000. The full text of this Commission decision is available for inspection and copying during normal business hours in the FCC Reference Information Center, Room Cy-A257, 445 12th Street, SW, Washington, DC, and also may be purchased from the Commission's duplication contractor, International Transcription Service, (202) 857-3800, 1231 20th Street, NW Washington, DC 20036.

Summary of the Memorandum Opinion and Order

1. In the Notice of Proposed Rule Making and Order (“Notice and Order”), 64 FR 2462, January 14, 1999, the Commission proposed to allocate the 3650-3700 MHz band to the non-government fixed service on a primary basis. To ensure that adequate opportunities would continue to exist for the provision of fixed services in the 3650-3700 MHz band, the Commission stated that it would no longer accept applications for new earth stations or major modifications in existing earth station facilities for the fixed-satellite service (“FSS”) in the 3650-3700 MHz band. The Notice and Order grandfathered existing extended C-band earth stations.

2. The Commission continues to believe that a freeze limiting the growth of new earth station facilities in the extended C-band is necessary to ensure that adequate opportunities exist for fixed services in the 3650-3700 MHz band. As noted in the Notice and Order a broad range of fixed services could be implemented in the 3650-3700 MHz band which could help to achieve the overarching goals of Section 706 of the Telecommunications Act of 1996 by providing advanced telecommunications capability to all Americans. The proposals submitted by New Skies and the C-Band Coalition to lift the freeze are unacceptable because such action would likely have the effect of significantly limiting or precluding future fixed service operations in this band. However, we find that a limited lifting of the freeze will provide relief for satellite users of the extended C-band without jeopardizing its future availability for terrestrial uses. We will therefore accept applications for new extended C-band earth stations or major modifications of an existing extended C-band earth station if the proposed earth station facilities are located in close proximity (i.e. 10 miles or less) to an existing, grandfathered extended C-band earth station in the 3650-3700 MHz band. We find that this will provide reasonable opportunities to obtain suitable real estate for the placement of new extended C-band earth stations near grandfathered extended C-band earth stations. Below is a list of existing sites. We find that the introduction of new extended C-band earth stations in close proximity to an existing grandfathered extended C-band earth stations will not substantially impede the opportunities for the introduction of fixed services in the 3650-3700 MHz band. Further, we find that this action will provide relief to satellite operators while having a de minimis impact on the opportunities for the provision of fixed services in the 3650-3700 MHz band.

Table 1.—Authorized Extended C-Band Earth Stations ¹
(Receive at 3625-3700 MHz and Transmit at 5850-5925 MHz) ²
State/City | North latitude | West longitude
California:
Carmel Valley | 36° 24′10″ | 121° 38′48″
Culver City | 34° 01′ 06″ | 118° 24′ 13″
Livermore | 37° 45′ 39″ | 121° 47′ 50″
Los Angeles | 34° 01′ 53″ | 118° 27′ 18″
| 34° 01′ 54″ | 118° 27′ 15″
| 34° 01′ 54″ | 118° 27′ 18.3″
| 34° 01′ 54″ | 118° 27′ 21.3″
Malibu | 34° 04′ 49.67″ | 118° 53′ 43.91″
| 34° 04′ 50.32″ | 118° 53′ 46.40″
Mountain House | 37° 45′ 01″ | 121° 35′ 34″
| 37° 45′ 02″ | 121° 35′ 35″
Niles Canyon | 37° 35′ 56″ | 121° 56′ 32″
| 37° 36′ 00″ | 121° 56′ 35″
Salt Creek | 38° 56′ 20.2″ | 122° 08′ 48″
| 38° 56′ 21″ | 122° 08′ 49.2″
| 38° 56′ 22.3″ | 122° 08′ 49.6″
Somis | 34° 19′ 31″ | 118° 59′ 41″
Sylmar | 34° 19′ 04″ | 118° 29′ 00″
Florida:
Medley | 25° 50′ 26″ | 80° 19′ 03″
| 25° 51′ 19″ | 80° 19′ 52″
Melbourne | 28° 02′ 25″ | 80° 35′ 48″
| 28° 05′ 10″ | 80° 38′ 10″
Miami | 25° 48′ 34″ | 80° 21′ 11″
| 25° 48′ 35″ | 80° 21′ 10″
| 25° 48′ 35″ | 80° 21′ 11″
Miramar ³ | 25° 58′ 32″ | 80° 17′ 00″
Orlando | 28° 25′ 29″ | 81° 07′ 21″
Palm Bay | 28° 02′ 28″ | 80° 35′ 42″
Guam: Pulantat | 13° 25′ 00″ | ⁴ 144° 44′ 57″
Maine: Andover | 44° 37′ 57″ | 70° 42′ 01″
| 44° 37′ 58″ | 70° 41′ 54″
Maryland:
Etam | 39° 16′ 48″ | 79° 44′ 14″
| 39° 16′ 50″ | 79° 44′ 13″
Clarksburg | 39° 13′ 07″ | 77° 16′ 12″
Massachusetts: Whitinsville | 42° 06′ 59″ | 71° 38′ 08″
New Jersey: Franklin | 41° 07′ 04″ | 74° 34′ 33″
New York: Staten Island | 40° 36′ 13″ | 74° 10′ 39″
North Carolina: West Jefferson | 36° 25′ 50″ | 81° 23′ 45″
Oregon: Moores Valley | 45° 20′ 33″ | 123° 17′ 15″
Pennsylvania: Roaring Creek | 40° 53′ 34″ | 76° 26′ 23″
| 40°53′35.9″ | 76° 26′ 22.6″
| 40°53′37″ | 76° 26′ 22″
| 40°53′37.5″ | 76° 26′ 21.8″
Puerto Rico:
Carolina | 18° 26′ 00″ | 65° 59′ 35″
Caguas | 18° 17′ 53″ | 66° 03′ 14″
Cayey | 18° 08′ 00″ | 66° 07′ 57″
Humacao | 18° 09′ 05″ | 65° 47′ 20″
Rio Piedras | 18° 14′ 30″ | 66° 01′ 50″
| 18° 22′ 59″ | 66° 04′ 09″
Tennessee: Nashville | 36° 14′ 06″ | 86° 45′ 21″
| 36° 14′ 5.7″ | 86° 45′ 19.4″
| 36° 14′ 5.7″ | 86° 45′ 21.4″
Texas: Woodland Hills | 32° 37′ 48″ | 96° 50′ 33″
Virginia:
Alexandria | 38° 47′ 39″ | 77° 09′ 51″
Shenandoah Court | 38° 43′ 45″ | 78° 39′ 26″
Washington: Brewster | 48° 08′ 49″ | 119° 41′ 28″
| 48° 08′ 51″ | 119° 41′ 29″
West Virginia:
Lennox | 39° 34′ 07″ | 79° 34′ 45″
Rowlesburg | 39° 16′ 52.1″ | 79° 44′ 10.7″
¹ In addition, there is an extended C-band earth station on the Midway Atoll.
² Most of these earth stations are authorized to make use of both C-band (3700-4200 MHz for downlinks and 5925-6425 MHz band for uplinks) and extended C-band frequencies (3625-3700 MHz for downlinks and 5850-5925 MHz for uplinks).
³ This is a receive-only station.
⁴ Guam's longitude coordinate is East, not West.

Table 2.—Sites Authorized for Less Than the Full Extended C-Band
Band | City, State | Latitude | Longitude
3685-3700 MHz | Miami, Florida | 25°28′48″ | 80°10′48″
| Atlanta, Georgia | 33°52′38.23″ | 84°27′58.35″
| Marietta, Georgia | 33°55′41″ | 84°29′45″
| Guaynabo, Puerto Rico | 18°34′10″ | 66°23′00″
| San Juan, Puerto Rico | 18°22′00″ | 66°07′00″
3650-3700 MHz | Auburn University, Alabama | 32°35′47″ | 85°29′27″

Table 3.—Authorized TT&C Sites
[Receive at 3698.5-3699.5 MHz and Transmit at 5923.5-5924.5 MHz]
City/State | Latitude | Longitude
Three Peaks, California | 38°8′51.9″ | 122°47′38″
Hawley, Pennsylvania | 41°27′51″ | 75°7′47.9″

3. Pursuant to the authority contained in sections 4(i), 302, 303(e), 303(f), 303(g), 303(r), and 405 of the Communications Act of 1934, as amended, it is ordered that the Request For Relief and Modified Request For Emergency Relief and Request For Expedited Action filed by New Skies Satellites N.V., are hereby granted, in part, and denied in part. The application processing changes are effective May 22, 2000.

Federal Communications Commission.
Magalie Roman Salas,
Secretary.

[FR Doc. 00-14610 Filed 6-9-00; 8:45 am]

BILLING CODE 6712-01-P